DEPARTMENT OF ENERGY

Federal Energy Regulatory Commission

Notice of Intent To Prepare an Environmental Assessment and Solicit Written Scoping Comments

December 21, 2000.

Take notice that the following hydroelectric application has been filed with Commission and is available for public inspection:

a. Type of Application: Subsequent License.

b. Project No.: 2103-002.

c. Date filed: June 29, 2000.

d. Applicant: Cominco American Incorporated.

e. Name of Project: Cedar Creek.

f. Location: On Cedar Creek, a tributary of the Pend Oreille River, in Stevens County, Washington. The Project occupies 2.058 acres of land managed by the Bureau of Land Management, 0.298 acre of International Boundary Reserve land controlled by the International Joint Commission, and 0.44 acre of private land.

g. Filed Pursuant to: Federal Power Act, 16 U.S.C. 791(a)-825(r).

h. Applicant Contact: Bruce DiLuzio, Cominco American Incorporated, 15918 E. Euclid Avenue, Spokane, WA, 98216, (509) 747-6111.

i. FERC Contact: Brandi Bradford, (202) 219-2789, brandi.bradford@ferc.fed.us.

j. Deadline for filing scoping comments: February 26, 2001.

All documents (original and eight copies) should be field with: David P. Boergers, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the internet in lieu of paper. See 18 CFR 385.2001(a)(1)(iii) and the instructions on the Commission's web site at http://www.ferc.fed.us/efi/doorbell.htm.

k. This application is not ready for environmental analysis at this time.

l. The existing Cedar Creek Project consists of 2.4 acres of land periodically inundated by operation of the Waneta Project located in British Columbia, Canada. The Cedar Creek Project area is located in the United States. All Waneta Project facilities, including the dam and power generation facilities, are located in Canada and are outside FERC jurisdiction. Within the confines of the Cedar Creek Project, the maximum pool is EL 1517.8 (Canadian Geodetic Survey of Canada Datum) and minimum pool is EL 1502. Cominco American Incorporated currently has flowage rights to lands in the Cedar Creek Project boundary up to EL 1521.

m. A copy of the application is available for inspection and reproduction at the Commission's Public Reference Room, located at 888 First Street, NE., Room 2A, Washington, DC 20426, or by calling (202) 208-1371. The application may be viewed on http://www.ferc.fed.us/rims.htm (call 202) 208-2222 for assistance). A copy is also available for inspection and reproduction at the address in item h above.

n. Scoping Process.

The Commission intends to prepare an Environmental Assessment (EA) on the project in accordance with the National Environmental Policy Act. The EA will consider both site-specific and cumulative environmental impacts and reasonable alternatives to the proposed action.

We are asking agencies, Native American tribes, non-governmental organizations, and individuals to help us identify the scope of environmental issues that should be analyzed in the EA, and to provide us with information that may be useful in preparing the EA by submitting written scoping comments.

To help focus comments on the environmental issues, a Scoping Document 1 that outlines subject areas to be addressed in the EA will soon be mailed to those on the mailing list for the project. The Scoping Document 1 will also be available from the address and website listed in item m above. For further information, please contact Brandi Bradford at (202) 219-2789.

Linwood A. Watson, Jr.,
Acting Secretary.

[FR Doc. 00-33104 Filed 12-27-00; 8:45 am]

BILLING CODE 6717-01-M